FEDERAL RETIREMENT THRIFT INVESTMENT BOARD

Employee Thrift Advisory Council

Time and Date: 2 p.m. (EST), February 7, 2007.

Place: 4th Floor Conference Room, 1250 H Street, NW., Washington, DC.

Status: Open.

Matters to be Considered:

1. Approval of the minutes of the March 7, 2006 meeting.

2. Report of the Executive Director on Thrift Savings Plan status.

3. Ennis Knupp Report.

4. Watson Wyatt Worldwide survey report.

5. Legislation.

6. New business.

Contact Person for More Information:Thomas K. Emswiler, Committee Management Officer, (202) 942-1660.

Dated: January 19, 2007.
Thomas K. Emswiler,
General Counsel, Federal Retirement Thrift Investment Board.

[FR Doc. 07-312 Filed 1-19-07; 5:08 pm]

BILLING CODE 6760-01-P